DEPARTMENT OF THE INTERIOR

Fish and Wildlife Service

Receipt of Application of Endangered Species Recovery Permits

AGENCY: Fish and Wildlife Service, Interior.

ACTION: Notice of availability and receipt of applications.

SUMMARY: We announce our receipt of applications to conduct certain activities pertaining to enhancement of survival of endangered species.

DATES: Written comments on this request for a permit must be received by April 26, 2006.

ADDRESSES: Written data or comments should be submitted to the Assistant Regional Director-Ecological Services, U.S. Fish and Wildlife Service, P.O. Box 25486, Denver Federal Center, Denver, Colorado 80225-0486; facsimile 303-236-0027. Documents and other information submitted with these applications are available for review, subject to the requirements of the Privacy Act [5 U.S.C. 552A] and Freedom of Information Act [5 U.S.C. 552], by any party who submits a request for a copy of such documents within 20 days of the date of publication of this notice to Kris Olsen, by mail or by telephone at 303-236-4256. All comments received from individuals become part of the official public record.

SUPPLEMENTARY INFORMATION: The following applicants have requested issuance of enhancement of survival permits to conduct certain activities with endangered species pursuant to section 10(a)(1)(A) of the Endangered Species Act of 1973, as amended (16 U.S.C. 1531 et seq.).

Applicant: U.S. Geological Survey, Northern Prairie Wildlife Research Center, Jamestown, North Dakota, TE-121914. The applicant requests a permit to take interior least terns (Sterna antillarum athalassos) and piping plovers (Charadrius melodus) in conjunction with recovery activities throughout the species' range for the purpose of enhancing their survival and recovery.

Applicant: University of Nebraska, Department of Entomology, Lincoln, Nebraska, TE-121912. The applicant requests a permit to take Salt Creek tiger beetles (Cicindela nevadica lincolniana) in conjunction with recovery activities throughout the species' range for the purpose of enhancing their survival and recovery.

Applicant: Bureau of Land Management, White River Resource Area, Meeker, Colorado, TE-121911. The applicant requests a permit to take black-footed ferrets (Mustela nigripes) in conjunction with recovery activities throughout the species' range for the purpose of enhancing their survival and recovery.

Applicant: Steven Wall, Volga, South Dakota, TE-121908. The applicant requests a permit to take Topeka shiner (Notropis topeka) in conjunction with recovery activities throughout the species' range for the purpose of enhancing their survival and recovery.

Applicant: Yankton Sioux Tribe, Marty, South Dakota, TE-121905. The applicant requests a permit to take interior least terns (Sterna antillarum athalassos) and piping plovers (Charadrius melodus) in conjunction with recovery activities throughout the species' range for the purpose of enhancing their survival and recovery.

Applicant: Saskatoon Forestry Farm park and Zoo, Saskatchewan, Canada, TE-121906. The applicant requests a permit to possess black-footed ferrets (Mustela nigripes) for public display and propagation in conjunction with recovery activities for the purpose of enhancing their survival and recovery.

Applicant: Colorado Division of Wildlife, Grand Junction, Colorado, TE-080990. The applicant requests a permit amendment to add surveys for black-footed ferrets (Mustela nigripes) in conjunction with recovery activities throughout the species' range for the purpose of enhancing its survival and recovery.

Applicant: National Park Service, Southeast Utah Group, Moab, Utah, TE-047808. The applicant requests a renewed permit to take Southwestern willow flycatchers (Empidonax traillii extimus) in conjunction with recovery activities throughout the species' range for the purpose of enhancing their survival and recovery.

Applicant: Bureau of Land Management, Grand Staircase-Escalante National Monument, TE-057401. The applicant requests a permit amendment to add surveys for Shivwitz milk-vetch (Astragalus ampullarioides) in conjunction with recovery activities throughout the species' range for the purpose of enhancing its survival and recovery.

Applicant: U.S. Geological Survey, South Dakota Coop Unit, Brookings, South Dakota, TE-047249. The applicant requests a renewed permit to take Topeka shiners (Notropis topeka) in conjunction with recovery activities throughout the species' range for the purpose of enhancing their survival and recovery.

Applicant: Texas Zoo, Victoria, Texas, TE-051840. The applicant requests a renewed permit to possess black-footed ferrets (Mustela nigripes) for public display and propagation in conjunction with recovery activities for the purpose of enhancing their survival and recovery.

Dated: March 15, 2006.
Casey Stemler,
Regional Director, Denver, Colorado.

[FR Doc. E6-4410 Filed 3-24-06; 8:45 am]

BILLING CODE 4310-55-P